DEPARTMENT OF ENERGY

Federal Energy Regulatory Commission

[Project No. 13228-000]

Wellesley Rosewood Maynard Mills LP; Notice of Preliminary Permit Application Accepted for Filing and Soliciting Comment, Motions To Intervene, and Competing Applications

July 9, 2008.

On May 19, 2008, Wellesley Rosewood Maynard Mills LP filed an application, pursuant to section 4(f) of the Federal Power Act, proposing to study the feasibility of the Clock Tower Place Hydroelectric Project, to be located on the Assabet River in the Maynard area of Middlesex County, Massachusetts.

The proposed project would consist of: (1) Two existing dams, the larger constructed of dry-laid, cut granite blocks, 9.5-foot-high and 170-foot-long and the smaller a masonry-faced embankment structure, respectively, for the upper and lower reservoirs which would have water surface elevations of 177 and 176 feet, MSL, a (2) proposed powerhouse containing one generating unit having a total installed capacity of 290 kilowatts, a (3) proposed 49-foot-long penstock and twin 300-foot-long tailrace tunnels, a (4) 1,600-foot-long power canal leading to the gatehouse, (5) incorporation of an existing transformer to interconnect equipment with Clock Tower Place at 208y/120 volts, and (5) appurtenant facilities. The project would have an annual energy generation of 1,241,000 kWh per year.

Applicant Contact: Mr. Robert Buonato, President, Wellesley Rosewood Maynard Mills LLC, 12 Clock Tower Place, Suite 200, Maynard, MA 01754; phone: 978-823-8224. FERC Contact: Alyssa Dorval, 202-502-6735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13228) in the docket number field to access the document. For assistance, call toll-free 1-866-208-3372.

Kimberly D. Bose,
Secretary.

[FR Doc. E8-16207 Filed 7-14-08; 8:45 am]

BILLING CODE 6717-01-P